CONSUMER PRODUCT SAFETY COMMISSION

[CPSC Docket No. 03-C0001]

TGH International Trading, Inc., A Corporation Provisional Acceptance of a Settlement Agreement and Order

AGENCY: Consumer Product Safety Commission.

ACTION: Notice.

SUMMARY: It is the policy of the Commission to publish settlements which it provisionally accepts under the Federal Hazardous Substances Act in the Federal Register in accordance with the terms of 16 CFR 1118.20. Published below is a provisionally-accepted Settlement Agreement with TGH International Trading, Inc., a corporation.

DATES: Any interested person may ask the Commission not to accept this agreement or otherwise comment on its contents by filing a written request with the Office of the Secretary by June 18, 2003.

ADDRESSES: Persons wishing to comment on this Settlement Agreement should send written comments to the Comment 03-C0001, Office of the Secretary, Consumer Product Safety Commission, Washington, DC 20207.

FOR FURTHER INFORMATION CONTACT: Dennis C. Kacoyanis, Trial Attorney, Office of Compliance, Consumer Product Safety Commission, Washington, DC 20207; telephone (301) 504-7587.

SUPPLEMENTARY INFORMATION: The text of the Agreement and Order appears below.

Dated: May 28, 2003.
Todd A. Stevenson,
Secretary.

Consent Order Agreement

1. TGH International Trading, Inc. (“TGH” or “Respondent”) enter into this Consent Order Agreement (hereinafter referred to as “Agreement”) with the staff of the Consumer Product Safety Commission (“the staff”) pursuant to the Commission's Procedures for Consent Order Agreements, 16 CFR 1118.20. The purpose of this Agreement is to settle the staff's allegations that Respondent violated sections 4(a) and (c) of the Federal Hazardous Substances Act (FHSA), 15 U.S.C. 1263(a) and (c).

I. The Parties

2. TGH is a corporation organized and existing under the laws of the State of California. TGH's principal place of business is 421 South Wall Street, Los Angeles, CA 90013. TGH is an importer and distributor of toys.

3. The “staff” is the “staff” of the Consumer Product Safety Commission, an independent regulatory agency established by Congress under section 4 of the Consumer Product Safety Act (CPSA), 15 U.S.C. 2053.

II. Allegations of the Staff

A. Violations of the Small Parts Regulation

4. On 12 occasions between May 28, 1994, and April 24, 2002, Respondent introduced or caused the introduction into interstate commerce; and received in interstate commerce and delivered or proffered delivery thereof for pay or otherwise, 30 types of toys (49,529 retail units) intended for use by children under three years old. These toys are identified and described as follows:

Sample No. | Toy | Entry/Collec * Date | Exporter | Quantity | LOA
S-867-8292 | Cathy Dolls | 05/28/94 | Alltrend | 30 | 08/03/94
T-867-8024 | Rainbow Loco | 10/05/94 | Camke | 600 | 10/19/94
T-867-8211 | Savings Bank Phone | 03/22/95 | Development | 1,440 | 07/19/95
T-867-8212 | Telephone Plano | 03/22/95 | Development | 720 | 07/19/95
96-860-5862 | Pull & Push | 04/15/96 | Kapo | 288 | 05/14/96
97-860-5520 | Rainbow Loco | 10/18/96 | Kapo | 240 | 11/20/96
97-860-5521 | Animal Funny | 10/18/96 | Kapo | 720 | 11/20/96
97-860-5572 | Port-A-Phone | 11/20/96 | Kapo | 7,200 | 01/29/97
98-860-5608 | Cartoon Car | 10/09/97 | Sun Ta | 816 | 11/28/97
99-860-5683 | Xylophone/Panda | 07/15/99 | Goldoll | 1,440 | 08/04/99
99-860-5684 | Xylophone/Dog | 07/15/99 | Goldoll | 1,440 | 08/04/99
99-860-5685 | Xylophone/Elephant | 07/15/99 | Goldoll | 1,440 | 08/04/99
99-860-5686 | Ice Cream Cart/Panda | 07/15/99 | Goldell | 2,160 | 08/04/99
99-860-5687 | Ice Cream Cart/Dog | 07/15/99 | Goldoll | 2,160 | 08/04/99
99-860-5688 | Ice Cream Cart/ | 07/15/99 | Goldell | 2,160 | 08/04/99
00-860-6546 | Rabbit Pull toy | 03/14/00 | Jia Mei | 5,568 | 04/03/00
00-860-6547 | Elephant Pull Toy | 03/14/00 | Jia Mei | 5,568 | 04/03/00
00-860-6548 | Lion Pull Toy | 03/14/00 | Jia Mai | 5,568 | 04/03/00
00-860-6549 | Dog Pull Toy | 03/14/00 | Jia Mai | 5,568 | 04/03/00
00-860-6550 | Locomotive Pull Toy | 03/14/00 | Jia Mai | 5,568 | 04/03/00
00-860-6561 | Funny Train Pull Toy | 03/14/00 | Jia Mai | 192 | 04/10/00
00-860-6562 | Dog Pull Toy | 03/14/00 | Jia Mai | 192 | 04/10/00
00-860-6563 | Rabbit Pull Toy | 03/14/00 | Jia Mei | 192 | 04/10/00
00-860-6564 | Dog Pull Toy | 03/14/00 | Jia Mei | 192 | 04/10/00
00-860-6565 | Lion Pull Toy | 03/14/00 | Jia Mai | 192 | 04/10/00
01-840-6017 | Musical Mobile | 02/05/01 | CSCL | 8,352 | 03/22/01
01-840-6048 | African Giraffe | 03/28/01 | Goldoll | 1,440 | 04/20/01
02-840-7010 | TV Man Toy | * 04/24/02 | Superegent | 72 | 07/02/02
02-840-7011 | Mushroom House Toy | * 04/24/02 | Jia Mei | 48 | 07/02/02
02-840-7012 | Guards of Crazing Land | * 04/24/02 | Goldoll | 17 | 07/02/02

5. The toys identified in paragraph 4 above are intended for children under three years old and are subject to the Commission's Small Parts Regulation, 16 CFR part 1501.

6. The toys identified in paragraph 4 above failed to comply with the Commission's Small Parts Regulation, 16 CFR part 1501, in that when tested under the “use and abuse” test methods specified in 16 CFR 1500.51 and .52, (a) one or more parts of each tested toy separated and (b) one or more of the separated parts from each of the toys fit completely within the small parts test cylinder, as set forth in 16 CFR 1501.4.

7. Because the separated parts fit completely within the test cylinder as described in paragraph 6 above, each of the toys identified in paragraph 4 above presents a “mechanical hazard” within the meaning of section 2(s) of the FHSA, 15 U.S.C. 1261(s) (choking, aspiration, and/or ingestion of small parts).

8. Each of the toys identified in paragraph 4 above is a “hazardous substance” pursuant to section 2(f)(1)(D) of the FHSA, 15 U.S.C. 1261(f)(1)(D).

9. Each of the toys identified in paragraph 4 above is a “banned hazardous substance” pursuant to section 2(q)(1)(A) of the FHSA, 15 U.S.C. 1261(q)(1)(A) and 16 CFR 1500.18(a)(9) because it is intended for use by children under three years of age and bears or contains a hazardous substance as described in paragraph 10 above; and because it presents a mechanical hazard as described in paragraph 9 above.

10. Respondent introduced or caused the introduction into interstate commerce; and received in interstate commerce and delivered or proffered delivery thereof for pay or otherwise, the banned hazardous toys, identified in paragraph 4 above, in violation of sections 4(a) and (c) of the FHSA, 15 U.S.C. 1263(a) and (c).

B. Violations of the Rattle Regulation

11. On one occasion in 2001, Respondent introduced or caused the introduction into interstate commerce; and received in interstate commerce and delivered or proffered delivery thereof for pay or otherwise a rattle set (58,800 retail units) intended for use by children. The rattle set is identified and described as follows:

Sample No. | Rattle | Entry/Collec* Date | Exporter | Quantity | LOA
01-840-6011 | Musical Baby Rattle Set | 01/31/01 | Goldoll | 8,400 | 03/08/01
01-840-6012 | Musical Baby Rattle Set | 01/31/01 | Goldoll | 8,400 | 03/08/01
01-840-6013 | Musical Baby Rattle Set | 01/31/01 | Goldell | 8,400 | 03/08/01
01-840-6014 | Musical Baby Rattle Set | 01/31/01 | Goldell | 8,400 | 03/08/01
01-840-6014 | Musical Baby Rattle Set | 01/31/01 | Goldell | 8,400 | 03/08/01
01-840-6015 | Musical Baby Rattle Set | 01/31/01 | Goldell | 8,400 | 03/08/01
01-840-6016 | Musical Baby Rattle Set | 01/31/01 | Goldell | 8,400 | 03/08/01

12. The rattle set identified in paragraph 11 above is subject to, but failed to comply with the Commission's Rattle Regulations, 16 CFR part 1510, in that when tested under the procedures set forth in 16 CFR 1510.4, each rattle in the set penetrated the full depth of the test fixture.

13. Because each rattle in the set identified in paragraph 11 above penetrated the full depth of the cavity of the test fixture as specified in 16 CFR 1510.4, it presents a “mechanical hazard” within the meaning of section 2(s) of the FHSA, 15 U.S.C. 1261(s) (choking) and is, therefore, a “hazardous substance” pursuant to section 2(f)(1)(D) of the FHSA, 15 U.S.C. 1261(f)(1)(D).

14. The rattle set identified in paragraph 11 above is a “banned hazardous substance” pursuant to section 2(q)(1)(A) of the FHSA, 15 U.S.C. 1261(q)(1)(A) and 16 CFR 1500.18(a)(15) because it is intended for use by children and bears or contains a hazardous substance; and because it presents a mechanical hazard as defined in paragraph 13 above.

15. Respondent introduced or caused the introduction into interstate commerce; and received in interstate commerce and delivered or proffered delivery thereof for pay or otherwise, the aforesaid banned hazardous rattle set identified in paragraph 11 above, in violation of sections 4(a) and (c) of the FHSA, 15 U.S.C. 1263(a) and (c).

C. Violations of the Labeling Requirements for Certain Toys and Games

16. On two occasions between March 28, 2001, and April 24, 2002, Respondent introduced or caused the introduction into interstate commerce; and received in interstate commerce and delivered or proffered delivery thereof for pay or otherwise, two types of toys (2,890 retail units) intended to use by children who are at least three years old but not older than six years old. These toys are identified and described as follows:

Sample No. | Toy | Entry/Collec* Date | Exporter | Quality | LOA
01-840-6049 | Snooker Set | 03/28/01 | Goldell | 2,880 | 04/20/01
02-840-7013 | Golf Play Toy Set | 04/24/02 | ? | 10 | 05/21/02

17. The toys identified in paragraph 16 above are subject to, but failed to comply with the Labeling Requirements for Certain Toys and Games under sections 24(b)(2)(B) and (b)(2)(C) of the FSHA, 15 U.S.C. 1278(b)(20)(B) and (b)(3)(B) and 16 CFR 1500.19(b)(3)(i) and (b)(4)(i) in that the toys did not bear the required cautionary label.

18. Because they lacked the required labeling, the toys identified in paragraph 16 above are “misbranded hazardous substances” pursuant to sections 2(p)(1)(D) and 24(d) of the FSHA, 15 U.S.C. 1261(p)(1)(D) and 24(d) and 16 CFR 1500.19(b)(3)(i) and 4(i).

19. Respondent introduced or caused the introduction into interstate commerce; and received in interstate commerce and delivered or proffered delivery thereof for pay or otherwise, the misbranded hazardous toys identified in paragraph 16 above, in violation of sections 4(a) and (c) of the FHSA, 15 U.S.C. 1263(a) and (c)

III. TGH's Response

20. TGH denies the allegations of the staff set forth in paragraphs 4-19 above.

IV. Agreement of the Parties

21. The Consumer Product Safety Commission has jurisdiction over Respondent under the Consumer Product Safety Act (CPSA), 15 U.S.C. 2051 et seq. and the Federal Hazardous Substances Act (FHSA), 15 U.S.C. 1261 et seq.

22. This Settlement Agreement is entered into for settlement purposes only and does not constitute findings by the Commission or an admission by Respondent that Respondent violated the FHSA.

23. Upon final acceptance of this Agreement by the Commission and issuance of the Final Order, Respondent knowingly, voluntarily, and completely waives any rights it may have in the above captioned case (1) to an administrative or judicial hearing with respect to the staff's allegations cited herein, (2) to judicial review or other challenge or contest of the validity of the Commission's actions, (3) to a determination by the Commission as to whether Respondent failed to comply with the FHSA and the underlying regulations, (4) to a statement of findings of facts and conclusions of law, and (5) to any claims under the Equal Access of Justice Act.

24. Upon provisions acceptance of this Agreement by the Commission, this Agreement shall be placed on the public record and shall be published in the Federal Register in accordance with the procedures set forth in 16 CFR 1118.20(e). If the Commission does not receive any written request not to accept the Agreement within 15 days, the Agreement will be deemed finally accepted on the 16th day after the date it is published in the Federal Register.

25. In settlement of the staff's allegations, Respondent agrees to comply with the attached Order incorporated herein by reference.

26. Upon violation of the attached Order by Respondent, the Commission reserves the right to take appropriate legal action against Respondent for all violations listed in section II of this Agreement and for all violations occurring after the effective date of this Agreement and Respondent waives the statute of limitations.

27. If the Commission finds that Respondent has introduced or caused the introduction into interstate commerce; and received in interstate commerce and delivered or proffered delivery thereof for pay or otherwise any banned or misbranded hazardous substances, Respondent will pay to the Commission upon demand a penalty in the amount of five (5) times the retail value of the product in question. This provision does not preclude the Commission from taking additional legal action including, but not limited to civil and/or criminal actions under sections 5 and 8 of the FHSA, 15 U.S.C. 1264 and 1267 and sections 20, 21, and 22 of the CPSA, 15 U.S.C. 2069, 2070, and 2071.

28. Respondent reserves its right to challenge the Commission's findings under paragraph 27 of this Agreement before the Commission and to have the court review whether the Commission acted arbitrary and capricious.

29. The Commission may publicize the terms of this Agreement.

30. Agreements, understandings, representations, or interpretations made outside of this Agreement may not be used to vary or to contradict its terms.

31. This Agreement shall become effective upon issuance of the Final Order by the Commission.

32. The provisions of this Agreement shall apply to Respondent and each of its successors and assigns.

Dated: April 11, 2003.

TGH International Trading, Inc.

Teresa Chan,

President, TGH International, Inc., 421 South Wall Street, Los Angeles, CA 90013.

Dated: April 11, 2003.

Consumer Product Safety Commission

Alan H. Schoem,

Assistant Executive Director, Office of Compliance, U.S. Consumer Product Safety Commission, Washington, DC 20207-0001.

Eric L. Stone,

Director, Legal Division, Office of Compliance, U.S. Consumer Product Safety Commission.

Dennis C. Kacoyanis,

Trial Attorney, Legal Division, Office of Compliance, Washington, DC.

Order

Upon consideration of the Consent Order Agreement entered into between Respondent TGH International Trading, Inc., and the staff of the Consumer Product Safety Commission; and the Commission having jurisdiction over the subject matter and Respondent; and it appearing that the Consent Order Agreement is in the public interest, it is ordered, that the Consent Agreement be and hereby is accepted and it is further ordered, that Respondent is prohibited from introducing or causing the introduction into interstate commerce; and receiving in interstate commerce and delivering or proffering delivery thereof for pay or otherwise

(a) Any toy or other article intended for use by children under three years of age that presents a choking, aspiration, or ingestion hazard because of small parts as defined in 16 CFR part 1501 when tested in accordance with the standards published in 16 CFR 1501.4, 1500.51, and 1500.52;

(b) Any rattle that presents a choking hazard because the rattle penetrates the full depth of the cavity of the test fixture as published in 16 CFR 1510.4;

(c) Any toy or other article intended for use by children who are at least three years old but less than six years old that fails to comply with the Labeling Requirements for Certain Toys and Games under section 24 of the FHSA, 15 U.S.C. 1278 and 16 CFR 1500.19; and

(d) Any other products that do not comply with the requirements of the FHSA and the underlying regulations and it is

Further ordered that a violation of this Order shall subject Respondent to legal action for all violations listed in section II of this Agreement and for all violations occurring after the effective date of this Agreement and it is

Further ordered that a violation of this Order shall subject Respondent to a penalty in the amount of five (5) times the retail value of the banned or misbranded hazardous substance and to additional legal action under the Federal Hazardous Substances Act and the Consumer Product Safety Act.

Provisionally accepted and Provisional Order issued on the 28th day of May, 2003.

By order of the Commission.

Todd A. Stevenson,

Secretary, Consumer Product Safety Commission.

[FR Doc. 03-13747 Filed 6-2-03; 8:45 am]

BILLING CODE 6355-01-M